DEPARTMENT OF DEFENSE

Department of the Air Force

Proposed Collection; Comment Request

AGENCY: Air Force Research Laboratory, Plans and Programs Directorate, DoD.

ACTION: Notice.

In compliance with Section 3506(c)(2)(A) of the Paperwork Reduction Act of 1995, the Air Force Research Laboratory announces the proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms or information technology.

DATES: Consideration will be given to all comments received by September 5, 2003.

ADDRESSES: Written comments and recommendations on the proposed information collection should be sent to Air Force Research Laboratory, AFRL/XPTC, Bldg 16, Room 107, 2275 D Street, Wright-Patterson AFB, OH 45433-7226.

FOR FURTHER INFORMATION CONTACT: To request more information on this proposed information collection or to obtain a copy of the proposal and associated collection instruments, please write to the above address, or call Air Force Research Laboratory, Corporate Communications Branch at 937-656-9048.

Title: Air Force Research Laboratory Market Research Survey.

Needs and Uses: Air Force Research Laboratory has taken on a major effort to improve laboratory service to its strategic partners in industry, academia and government, as well as readership of its quarterly magazine, AFRL Technology Horizons®. As such, it is imperative the Research Laboratory understands customers' current perceptions of the laboratory and the magazine. With this information, the Air Force Research Laboratory will be better able to develop communication strategies for the Air Force Research Laboratory to employ with its strategic partners.

Affected Public: Subscribers to AFRL Technology Horizons magazine, and government, industry and academia partners and potential partners in technology transfer, dual use science and technology, small business, small business innovation research, and independent research and development.

Annual Burden Hours: 125.

Number of Respondents: Estimate 1,000 voluntary responses through web-based surveys.

Responses per Respondent: 1.

Average Burden per Response: 15 minutes.

Frequency: At two-year intervals.

SUPPLEMENTARY INFORMATION:

Summary of Information Collection

This survey will serve multiple purposes. It will gauge government, industry and academia's awareness of, familiarity with, attitudes about and feelings toward the Air Force Research Laboratory. It will also gauge what the AFRL Technology Horizons readership thinks of the magazine and the Air Force Research Laboratory. The survey asks what they currently know about the laboratory and their experiences with various outreach programs such as technology transfer, small business innovation research, independent research and analysis, and dual use science and technology. The survey also asks magazine readers to identify strengths and weaknesses of the magazine to guide the Air Force Research Laboratory in future changes to the magazine to better meet readers' needs. The survey will allow for comparisons of data to better target communication efforts to effectively communicate Air Force Research Laboratory information to the public. Findings from these surveys of the civilian population also will be compared with similar data to be gathered from the internal Air Force Research Laboratory leadership at approximately the same time, providing a valuable head-to-head comparison of civilians' and Air Force Research Laboratory's leadership perceptions of how well the Air Force Research Laboratory does its job.

Pamela Fitzgerald,
Federal Register Air Force Liaison Officer.

[FR Doc. 03-16994 Filed 7-3-03; 8:45 am]

BILLING CODE 5001-05-U